DEPARTMENT OF STATE

[Public Notice: 8765]

Culturally Significant Object Imported for Exhibition Determinations: “Magna Carta: Cornerstone of Liberty,” “Radical Words: From the Magna Carta to the Constitution” and “Magna Carta: Muse and Mentor” Exhibitions

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the object to be included in the exhibition “Magna Carta: Cornerstone of Liberty” at the Museum of Fine Arts; the exhibition “Radical Words: From the Magna Carta to the Constitution” at the Sterling and Francine Clark Art Institute, and exhibition “Magna Carta: Muse and Mentor” at the Library of Congress, imported from abroad for temporary exhibition within the United States, is of cultural significance. The object is imported pursuant to a loan agreement with the foreign owner or custodian. I also determine that the exhibition or display of the exhibit object at the Museum of Fine Arts, Boston, MA, from on or about July 2, 2014, until on or about September 1, 2014; the Sterling and Francine Clark Art Institute, Williamstown, MA, from on or about September 6, 2014, until November 2, 2014, and the Library of Congress, Washington, DC, from November 6, 2014, until on or about January 19, 2015, and at possible additional exhibitions or venues yet to be determined, is in the national interest. I have ordered that Public Notice of these Determinations be published in the Federal Register.

FOR FURTHER INFORMATION CONTACT: For further information, including a list of the exhibit object, contact Julie Simpson, Attorney-Adviser, Office of the Legal Adviser, U.S. Department of State (telephone: 202-632-6467). The mailing address is U.S. Department of State, SA-5, L/PD, Fifth Floor (Suite 5H03), Washington, DC 20522-0505.

Dated: June 9, 2014.
Kelly Keiderling,
Principal Deputy Assistant Secretary, Bureau of Educational and Cultural Affairs, Department of State.

[FR Doc. 2014-14053 Filed 6-13-14; 8:45 am]

BILLING CODE 4710-05-P